DEPARTMENT OF COMMERCE

International Trade Administration]

[A-570-831]

Fresh Garlic from the People's Republic of China: Final Results of Antidumping Duty New Shipper Review for Linyi Sanshan Import & Export Trading Co., Ltd.

AGENCY: Import Administration, International Trade Administration, Department of Commerce.

SUMMARY: On May 3, 2004, the Department of Commerce published the preliminary results of the new shipper reviews of the antidumping duty order on fresh garlic from the People's Republic of China covering six producers/exporters of subject merchandise. The period of review is November 1, 2002, through April 30, 2003. This notice pertains solely to the final results of review for Linyi Sanshan Import & Export Trading Co., Ltd. The notice of final results of review applicable to the other five producers/exporters is due July 26, 2004.

We gave interested parties an opportunity to comment on the preliminary results of the new shipper reviews but received no comments with respect to Linyi Sanshan. Therefore, these final results of review have not changed from that presented in the preliminary results of review, in which we applied total adverse facts available. The final dumping margin for Linyi Sanshan is listed in the “Final Results of New Shipper Review” section below.

EFFECTIVE DATE: June 28, 2004.

FOR FURTHER INFORMATION CONTACT: Brian Ellman or Minoo Hatten, Office of AD/CVD Enforcement 3, Import Administration, International Trade Administration, U.S. Department of Commerce, 14th Street and Constitution Avenue, N.W., Room 4203, Washington, DC 20230; telephone (202) 482-4852 or (202) 482-1690, respectively.

SUPPLEMENTARY INFORMATION:

Scope of the Order

The products subject to the antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (HTSUS). Although the HTSUS subheadings are provided for convenience and customs purposes, the written description of the scope of this proceeding is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to U.S. Customs and Border Protection (CBP) to that effect.

Background

The Department of Commerce (the Department) is conducting this review of Linyi Sanshan Import & Export Trading Co., Ltd. (Linyi Sanshan) in accordance with section 751(a)(2)(B) of the Tariff Act of 1930, as amended (the Act). On May 3, 2004, the Department published the preliminary results of the new shipper review of the antidumping duty order on fresh garlic from the People's Republic of China (PRC) with respect to Linyi Sanshan. See Fresh Garlic from the People's Republic of China: Preliminary Results of Antidumping Duty New Shipper Reviews, 69 FR 24123 (Preliminary Results). We invited parties to comment on the Preliminary Results but received no comments with respect to Linyi Sanshan. Therefore, we have determined that no changes to the preliminary results are warranted for these final results.

Separate Rates

In the Preliminary Results we determined that Linyi Sanshan did not qualify for a separate rate and is deemed to be covered by the PRC-wide rate. See Preliminary Results, 69 FR 24125. We have not received any information since the issuance of the Preliminary Results that provides a basis for reconsideration of this determination.

The PRC-Wide Rate and Use of Facts Otherwise Available

The information Linyi Sanshan submitted for this new shipper review could not be verified because the company chose not to participate in the verification. Linyi Sanshan's decision not to participate in the verification prevented the Department from checking the accuracy of the information that it submitted; therefore, the Department considers Linyi Shanshan to have hindered the calculation of an accurate dumping margin and impeded the proceeding. Accordingly, as adverse facts available pursuant to sections 776(a)(2)(C) and (D) and 776(b) of the Act and reflecting the determination that Linyi Sanshan is not eligible for a separate rate, we have assigned the PRC-wide rate of 376.67 percent to Linyi Sanshan. For detailed information on the Department's corroboration of this rate see the Preliminary Results at 24125.

We have not received any information since the issuance of the Preliminary Results that provides a basis for reconsideration of this determination.

Final Results of New Shipper Review

We find that a dumping margin of 376.67 percent exists for the period November 1, 2002, through April 30, 2003, for shipments of fresh garlic from the PRC grown and exported by Linyi Sanshan Import & Export Trading Co., Ltd., as part of the PRC entity.

Assessment Rates and Cash-Deposit Requirements

The Department will determine, and CBP shall assess, antidumping duties on all appropriate entries. We will issue appropriate assessment instructions directly to CBP within 15 days of publication of these final results of review.

The following cash-deposit requirements will be effective upon publication of these final results of new shipper review for all shipments of the subject merchandise entered, or withdrawn from warehouse, for consumption on or after the publication date, as provided by section 751(a)(2)(C) of the Act: (1) For subject merchandise exported by Linyi Sanshan Import & Export Trading Co., Ltd., the cash-deposit rate will be the PRC-countrywide rate, which is 376.67 percent; (2) for all other PRC exporters of subject merchandise which have not been found to be entitled to a separate rate, the cash-deposit rate will be the PRC-countrywide rate which is 376.67 percent; and (3) for all non-PRC exporters of subject merchandise, the cash-deposit rate will be the rate applicable to the PRC exporter which supplied that exporter. These deposit requirements shall remain in effect until publication of the final results of the next administrative review.

Notification to Interested Parties

Bonding is no longer permitted to fulfill security requirements for shipments from Linyi Sanshan of fresh garlic from the PRC entered, or withdrawn from warehouse, for consumption in the United States on or after the publication of this notice in the Federal Register.

This notice serves as a final reminder to importers covered by this determination of their responsibility under 19 CFR 351.402(f) to file a certificate regarding the reimbursement of antidumping duties prior to liquidation of the relevant entries during this review period. Failure to comply with this requirement could result in the Department's presumption that reimbursement of antidumping duties occurred and the subsequent assessment of doubled antidumping duties.

We are issuing and publishing the final results of this new shipper review in accordance with sections 751(a)(2)(B) and 777(i) of the Act and 19 CFR 351.214(i)(1).

Dated: June 22, 2004.
James J. Jochum,
Assistant Secretary for Import Administration.

[FR Doc. 04-14619 Filed 6-25-04; 8:45 am]

BILLING CODE 3510-DS-S